DEPARTMENT OF HOMELAND SECURITY

U.S. Customs and Border Protection

U.S. Customs and Border Protection 2012 West Coast Trade Symposium: “Transforming Trade for a Stronger Economy”

AGENCY: U.S. Customs and Border Protection, Department of Homeland Security.

ACTION: Notice of trade symposium; correction.

SUMMARY: U.S. Customs and Border Protection (CBP) published a document in the Federal Register on March 19, 2012, announcing that it will be holding two trade symposia this year. One trade symposium will be held on the West Coast on May 10, 2012, and the other will be on the East Coast later in the year. This document corrects that March 19 document to note that the theme of this year's symposia has been changed to “Transforming Trade for a Stronger Economy”; and to inform the public that the fees have changed for both attendance at the Long Beach Convention and Entertainment Center and for access to the live web-casting of the event; that the trade symposium will now be one hour longer, running from 8:30 a.m. until 4 p.m.; and that registration will open to the public on or about March 20, 2012.

DATES: Thursday, May 10, 2012, 8:30 a.m. to 4 p.m.

ADDRESSES: The CBP 2012 West Coast Trade Symposium will be held at the Long Beach Convention and Entertainment Center in the Grand Ballroom at 300 E. Ocean Boulevard, Long Beach, CA 90802.

FOR FURTHER INFORMATION CONTACT: The Office of Trade Relations at (202) 344-1440, or at tradeevents@dhs.gov. To obtain the latest information on the Symposium and to register online, visit the CBP web site at http://www.cbp.gov. Requests for special needs should be sent to the Office of Trade Relations at tradeevents@dhs.gov.

SUPPLEMENTARY INFORMATION: CBP will be holding two trade symposia this year, one on the West Coast and one on the East Coast. This year's theme for the Trade Symposium is “Transforming Trade for a Stronger Economy.” This document corrects a previous announcement published in the Federal Register (77 FR 16048) on March 19, 2012, about the West Coast trade symposium which will be held in Long Beach, California on May 10, 2012.

The corrections involve: the theme of the symposia (now called “Transforming Trade for a Stronger Economy”); the costs for both attending the West Coast symposium live and having live webcast access to the symposium; the hours of the symposium; and when registration opens to the public. The cost for attending the symposium has been changed to $160 and the cost for the webcast has been changed to $47. Also, the trade symposium is now scheduled to be one hour longer than was originally stated, running from 8:30 a.m. until 4 p.m. Registration will open to the public on or about March 20, 2012. All other information in the March 19, 2012 notice is unchanged.

The format of this year's West Coast symposium will be held in a general session; there will be no breakout sessions. Discussions will be held regarding CBP's role in international trade initiatives and programs.

The agenda for the 2012 West Coast Trade Symposium and the keynote speakers will be announced at a later date on the CBP Web site (http://www.cbp.gov). The registration fee is $160.00 per person. Interested parties are requested to register early, as space is limited. Registration will open to the public on or about March 20, 2012. All registrations must be made on-line at the CBP web site (http://www.cbp.gov) and will be confirmed with payment by credit card only.

Due to the overwhelming interest to attend past symposia, each company is requested to limit their company's registrations to no more than three participants, in order to afford equal representation from all members of the international trade community. If a company exceeds the limitation, any additional names submitted for registration will automatically be placed on the waiting list.

As an alternative to on-site attendance, access to live webcasting of the event will be available for a fee of $47.00. This includes the broadcast and historical access to recorded sessions for a period of time after the event. Registration for this is on-line as well.

Please note that the 2012 East Coast Trade Symposium will be held later in the year.

Hotel accommodations will be announced at a later date on the CBP Web site (http://www.cbp.gov).

Dated: March 20, 2012.
Mindy J. Wallace,
Senior Management and Program Analyst, Office of Trade Relations.

[FR Doc. 2012-7079 Filed 3-22-12; 8:45 am]

BILLING CODE 9111-14-P